FEDERAL TRADE COMMISSION

Agency Information Collection Activities; Comment Request

AGENCY: Federal Trade Commission (Commission or FTC).

ACTION: Notice.

SUMMARY: The FTC intends to conduct consumer research to examine the effectiveness of the FTC's current energy labeling requirements for consumer products and obtain information about alternatives to those labels. This activity is part of the Commission's efforts to examine the current labeling program, as required by section 137 of the Energy Policy Act of 2005 (Pub. L. 109-58). Before gathering this information, the FTC is seeking public comments on its proposed consumer research. Comments will be considered before the FTC submits a request for Office of Management and Budget (OMB) review under the Paperwork Reduction Act (PRA), 44 U.S.C. 3501-3520.

DATES: Comments must be received on or before May 15, 2006.

ADDRESSES: Interested parties are invited to submit written comments. Comments should refer to “Appliance Labeling Survey: No. P064200” to facilitate the organization of comments. A comment filed in paper form should include this reference both in the text and on the envelope and should be mailed or delivered, with two complete copies, to the following address: Federal Trade Commission/Office of the Secretary, Room H-135 (Annex K), 600 Pennsylvania Avenue, NW., Washington, DC 20580. Because paper mail in the Washington area and at the Commission is subject to delay, please consider submitting your comments in electronic form, as prescribed below. However, if the comment contains any material for which confidential treatment is requested, the comment must be filed in paper form, and the first page of the document must be clearly labeled “Confidential.” ¹ The FTC is requesting that any comment filed in paper form be sent by courier or overnight service, if possible.

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by clicking on the following weblink: https://secure.commentworks.com/FTC-ApplianceSurvey and following the instructions on the Web-based form. To ensure that the Commission considers an electronic comment, you must file it on the web-based form at the https://secure.commentworks.com/FTC-ApplianceSurvey Web link. If this notice appears at http://www.regulations.gov, you may also file an electronic comment through that Web site. The Commission will consider all comments that regulations.gov forwards to it.

The FTC Act and other laws the Commission administers permit the collection of public comments to consider and use in this proceeding as appropriate. All timely and responsive public comments will be considered by the Commission and will be available to the public on the FTC Web site, to the extent practicable, at http://www.ftc.gov. As a matter of discretion, the FTC makes every effort to remove home contact information for individuals from the public comments it receives before placing those comments on the FTC Web site. More information, including routine uses permitted by the Privacy Act, may be found in the FTC's privacy policy at http://www.ftc.gov/ftc/privacy.htm.

FOR FURTHER INFORMATION CONTACT: Requests for additional information should be addressed to Hampton Newsome, Attorney, Division of Enforcement, Bureau of Consumer Protection, Federal Trade Commission, 600 Pennsylvania Avenue, NW., Washington, DC 20580, (202) 326-3228.

SUPPLEMENTARY INFORMATION: Under the PRA, Federal agencies must obtain approval from OMB for each collection of information they conduct or sponsor. “Collection of information” means agency requests or requirements that members of the public submit reports, keep records, or provide information to a third party. 44 U.S.C. 3502(3), 5 CFR 1320.3(c).

Section 324 of the Energy Policy and Conservation Act of 1975 (EPCA), 42 U.S.C. 6291-6309, requires the FTC to prescribe labeling rules for the disclosure of estimated annual energy cost or alternative energy consumption information for a variety of products covered by the statute, including home appliances (e.g., refrigerators, dishwashers, air conditioners, and furnaces), lighting, and plumbing products. The Commission's Appliance Labeling Rule (Rule), 16 CFR part 305, implements these requirements by directing manufacturers to disclose energy information about major household appliances. This information enables consumers to compare the energy use or efficiency of competing models. When initially published in 1979, the Rule applied to eight appliance categories: refrigerators, refrigerator-freezers, freezers, dishwashers, water heaters, clothes washers, room air conditioners, and furnaces. Since then, the Commission has expanded the Rule's coverage to include central air conditioners, heat pumps, fluorescent lamp ballasts, plumbing products, lighting products, pool heaters, and some other types of water heaters.

Section 137 of the Energy Policy Act of 2005 amends the EPCA (42 U.S.C. 6294(a)(2)) to require the Commission to initiate a rulemaking to consider “the effectiveness of the consumer products labeling program in assisting consumers in making purchasing decisions and improving energy efficiency.” As part of this effort, EPCA directs the Commission to consider “changes to the labeling rules (including categorical labeling) that would improve the effectiveness of consumer product labels.”

On November 2, 2005, the Commission published an Advance Notice of Proposed Rulemaking (ANPR) seeking comments on the effectiveness of the FTC's energy labeling regulations for consumer products. 70 FR 66307 (November 2, 2005). In that Notice, the Commission stated that the American Council for an Energy Efficient Environment (ACEEE) released a report in 2002 summarizing its research on the EnergyGuide label's efficacy and on alternative formats and graphical elements for the label.² More recently, the Association of Home Appliance Manufacturers (AHAM) conducted a study that also examined the current label and alternatives. AHAM submitted the study as part of its comments on the ANPR.³ The conclusions reached by AHAM and ACEEE are not in accord. As part of the ongoing rulemaking on the label's effectiveness, the Commission is considering conducting its own consumer research related to the existing label requirements and possible alternatives. As required by the PRA, 44 U.S.C. 3506(c)(2)(A), the FTC is providing this opportunity for public comment before requesting that OMB grant the clearance for the survey.

² Thorne, Jennifer and Egan, Christine, “An Evaluation of the Federal Trade Commission's EnergyGuide Label: Final Report and Recommendations,” ACEEE, August 2002. The report is available online at http://aceee.org/pubs/a021full.pdf.

³ See AHAM Comments in FTC Matter No. R511994, (January 13, 2006) (http://www.ftc.gov/os/comments/energylabeling/519870-00016.htm).

The FTC invites comments on: (1) Whether the proposed collections of information are necessary for the proper performance of the functions of the FTC, including whether the information will have practical utility; (2) the accuracy of the FTC's estimate of the burden of the proposed collections of information; (3) ways to enhance the quality, utility, and clarity of the information to be collected; and (4) ways to minimize the burden of collecting information on those who are to respond, including through the use of appropriate automated, electronic, mechanical, or other technological collection techniques or other forms of information technology, e.g., permitting electronic submission of responses. All comments should be filed as prescribed in the ADDRESSES section above, and must be received on or before May 15, 2006.

1. Description of the Collection of Information and Proposed Use

The FTC proposes to collect information from up to 3000 consumers in order to gather data on the effectiveness of current energy labels required by the Rule and possible alternatives to those current requirements. All information will be collected on a voluntary basis. Subject to OMB approval for the collection of information, the FTC plans to contract with a consumer research firm to identify consumers and conduct the survey. The results will assist the FTC in determining the effectiveness of the consumer products labeling program in assisting consumers in their purchasing decisions and improving energy efficiency. The results also should aid the Commission in considering changes to the labeling rules that would improve the effectiveness of consumer product labels.

2. Estimated Hours Burden

The FTC is considering pretesting the consumer questionnaires on approximately 100 respondents to ensure that all questions are easily understood. The FTC expects that the pretest would take approximately 20 minutes on average per person and approximately 33 hours as a whole (100 respondents × 20 minutes each). Once the pretest is completed, the FTC plans to seek information from approximately 3000 respondents. Answering the FTC's information requests will require approximately 1000 hours as a whole (3000 respondents × 20 minutes each). Thus, cumulative total burden hours for the survey will be approximately 1,000 hours (rounded to the nearest thousand).

3. Estimated Cost Burden

The cost per respondent should be negligible. Participation is voluntary and will not require start-up, capital, or labor expenditures by respondents.

By direction of the Commission.
Donald S. Clark,
Secretary.

[FR Doc. E6-3700 Filed 3-14-06; 8:45 am]

BILLING CODE 6750-01-P